DEPARTMENT OF COMMERCE

Foreign-Trade Zones Board

[Order No. 1928]

Approval of Subzone Expansion Mitsubishi Electric Power Products Inc.; Subzone 33D; Southwestern Pennsylvania

Pursuant to its authority under the Foreign-Trade Zones Act of June 18, 1934, as amended (19 U.S.C. 81a-81u), the Foreign-Trade Zones Board (the Board) adopts the following Order:

Whereas, the Foreign-Trade Zones Act provides for “. . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board's regulations (15 CFR part 400) provide for the establishment of subzones when existing zone facilities cannot serve the specific use involved;

Whereas, the Regional Industrial Development Corporation, grantee of Foreign-Trade Zone 33, has made application to the Board for the expansion of Subzone 33D on behalf of Mitsubishi Electric Power Products Inc., in southwestern Pennsylvania (FTZ Docket B-79-2013, docketed 8-16-2013);

Whereas, notice inviting public comment has been given in the Federal Register (78 FR 52758, 8-26-2013) and the application has been processed pursuant to the FTZ Act and the Board's regulations; and,

Whereas, the Board adopts the findings and recommendations of the examiner's memorandum, and finds that the requirements of the FTZ Act and the Board's regulations are satisfied;

Now, therefore, the Board hereby approves the expansion of Subzone 33D on behalf of Mitsubishi Electric Power Products Inc. in southwestern Pennsylvania, as described in the application and Federal Register notice, subject to the FTZ Act and the Board's regulations, including Section 400.13.

Signed at Washington, DC, this 2nd day of January 2014.
Christian Marsh,
Acting Assistant Secretary of Commerce for Enforcement and Compliance, Alternate Chairman, Foreign-Trade Zones Board.

[FR Doc. 2014-00533 Filed 1-13-14; 8:45 am]

BILLING CODE 3510-DS-P